DEPARTMENT OF DEFENSE

Office of the Secretary

[Transmittal No. 24-10]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-10, Policy Justification, and Sensitivity of Technology.

Dated: November 13, 2025.
Aaron T. Siegel,
Alternate OSD Federal Register Liaison Officer, Department of Defense.

Transmittal No. 24-10

Notice of Proposed Issuance of Letter of Offer Pursuant to Section 36(b)(1) of the Arms Export Control Act, as amended

(i) Prospective Purchaser: Government of Israel

(ii) Total Estimated Value:

Major Defense Equipment * | $458.4 million
Other | $315.7 million
TOTAL | $774.1 million

Funding Source: Foreign Military Financing and National Funds

(iii) Description and Quantity or Quantities of Articles or Services under Consideration for Purchase:

Major Defense Equipment (MDE):

Thirty-two thousand seven hundred thirty-nine (32,739) 120mm tank cartridges, consisting of:

120mm M1147 High Explosive Multi-Purpose with Tracer (HEMP-T) cartridges and/or;

120mm M830A1 High Explosive Multi-Purpose Anti-Tank (MPAT) with Tracer cartridges

Non-MDE:

The following non-MDE is also included: various 120mm tank munitions; 120mm munition canisters; transportation costs; publications and technical documentation; U.S. Government and contractor engineering, technical, and logistics support services; and other related elements of logistics and program support.

(iv) Military Department: Army (IS-B-VDM)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: August 13, 2024

* as defined in Section 47(6) of the Arms Export Control Act.

POLICY JUSTIFICATION

Israel—120mm Tank Cartridges

The Government of Israel has requested to buy thirty-two thousand seven hundred thirty-nine (32,739) 120mm tank cartridges, consisting of 120mm M1147 High Explosive Multi-Purpose with Tracer (HEMP-T) cartridges and/or 120mm M830A1 High Explosive Multi-Purpose Anti-Tank (MPAT) with Tracer cartridges. The following non-MDE is also included: various 120mm tank munitions; 120mm munitions canisters; transportation costs; publications and technical documentation; U.S. Government and contractor engineering, technical, and logistics support services; and other related elements of logistics and program support. The estimated total cost is $774.1 million.

The United States is committed to the security of Israel, and it is vital to U.S. national interests to assist Israel to develop and maintain a strong and ready self-defense capability. This proposed sale is consistent with those objectives.

Israel will use the enhanced capability as a deterrent to regional threats and to strengthen its homeland defense. Israel will have no difficulty absorbing this equipment into its armed forces.

The proposed sale of this equipment and support will not alter the basic military balance in the region.

The principal contractors will be General Dynamics Ordnance and Tactical Systems, located in St. Petersburg, FL, and Northrop Grumman Defense Systems, located in Falls Church, VA. There are no known offset agreements proposed in connection with this potential sale.

Implementation of this proposed sale will not require the assignment of any additional U.S. Government or contractor representatives to Israel.

There will be no adverse impact on U.S. defense readiness as a result of this proposed sale.

Transmittal No. 24-10

Notice of Proposed Issuance of Letter of Offer Pursuant to Section 36(b)(1) of the Arms Export Control Act

Annex

Item No. vii

(vii) Sensitivity of Technology:

a. The 120mm M1147 High Explosive Multi-Purpose with Tracer (HEMP-T) cartridge is a line-of-sight, full-bore, multi-purpose munition for the Abrams tank. It uses the Abrams Ammunition Data Link (ADL) hardware modification fielded on the M1A2SEPV2 platform to program the multi-mode fuze that provides three modes of operation: point detonate (PD), point detonate delay (DLY), and airburst. On PD/DLY mode, the high explosive payload is used to defeat bunkers, light armor, and breach obstacles and double reinforced concrete walls. On airburst mode, the M1147 provides the capability to defeat Anti-Tank Guided Missile (ATGM) teams.

b. The 120mm M830A1 High Explosive Multi-Purpose Anti-Tank (MPAT) with Tracer cartridge is a line-of-sight, full-bore, multi-purpose munition for the Abrams tank. It requires the gunner to manually select the fuze mode to either point detonate against buildings, bunkers, and light armor vehicles or similar target sets, or proximity for anti-helicopter self-defense capabilities.

c. The highest level of classification of defense articles, components, and services included in this potential sale is Controlled Unclassified Information.

d. If a technologically advanced adversary were to obtain knowledge of the specific hardware and software elements, the information could be used to develop countermeasures that might reduce weapon system effectiveness or be used in the development of a system with similar or advanced capabilities.

e. A determination has been made that Israel will provide substantially the same degree of protection for the sensitive technology being released as the U.S. Government. This sale is necessary in furtherance of the U.S. foreign policy and national security objectives outlined in the Policy Justification.

f. All defense articles and services listed in this transmittal have been authorized for release and export to the Government of Israel.

[FR Doc. 2025-20067 Filed 11-17-25; 8:45 am]

BILLING CODE 6001-FR-P